ENVIRONMENTAL PROTECTION AGENCY

40 CFR Part 180

[EPA-HQ-OPP-2002-0043; FRL-8126-5]

Pesticide Tolerance Nomenclature Changes; Technical Amendment

AGENCY: Environmental Protection Agency (EPA).

ACTION: Final rule; technical amendment.

SUMMARY: This document makes minor revisions to the terminology of certain commodity terms listed under 40 CFR part 180, subpart C. EPA is taking this action to establish a uniform listing of commodity terms.

DATES: This Direct Final Rule is effective on November 2, 2007 without notice, unless EPA receives adverse comment by October 18, 2007. If EPA receives adverse comments, EPA will publish a Federal Register document to withdraw the direct final rule before the effective date.

If this Direct Final Rule becomes effective on November 2, 2007, any person may file objections and request for hearings on those objections. Objections and requests for hearings must be received on or before November 19, 2007. For direct final rules, the date of issuance is considered to be the effective date. Objections and hearings must be filed in accordance with the instructions provided in 40 CFR part 178 (see also Unit I.C. of the SUPPLEMENTARY INFORMATION).

ADDRESSES: EPA has established a docket for this action under docket identification (ID) number EPA-HQ-OPP-2002-0043. All documents in the docket are listed in the index for the docket. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Building), 2777 S. Crystal Drive, Arlington, VA. The Docket Facility is open from 8:30 a.m. to 4 p.m., Monday through Friday, excluding legal holidays. The Docket telephone number is (703) 305-5805.

FOR FURTHER INFORMATION CONTACT: Stephen Schaible, Registration Division (7505P), Office of Pesticide Programs, Environmental Protection Agency, 1200 Pennsylvania Ave., NW., Washington, DC 20460-0001; telephone number: (703) 308-9362; fax number: (703) 305-6920; e-mail address: schaible.stephen@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111), e.g., agricultural workers; greenhouse, nursery, and floriculture workers; farmers.

• Animal production (NAICS code 112), e.g., cattle ranchers and farmers, dairy cattle farmers, livestock farmers.

• Food manufacturer (NAICS code 311), e.g., agricultural workers; farmers; greenhouse, nursery, and floriculture workers; ranchers; pesticide applicators.

• Pesticide manufacturer (NAICS code 32532), e.g., agricultural workers; commercial applicators; farmers; greenhouse, nursery, and floriculture workers; residential users.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Access Electronic Copies of this Document?

In addition to accessing an electronic copy of this Federal Register document through the electronic docket at http://www.regulations.gov, you may access this “Federal Register” document electronically through the EPA Internet under the “Federal Register” listings at http://www.epa.gov/fedrgstr. You may also access a frequently updated electronic version of 40 CFR part 180 through the Government Printing Office's pilot e-CFR site at http://www.gpoaccess.gov/ecfr. To access the OPPTS Harmonized Guidelines referenced in this document, go directly to the guidelines at http://www.epa.gpo/opptsfrs/home/guidelin.htm.

C. Can I File an Objection or Hearing Request?

Under section 408(g) of the FFDCA, as amended by the FQPA, any person may file an objection to any aspect of this regulation and may also request a hearing on those objections. The EPA procedural regulations which govern the submission of objections and requests for hearings appear in 40 CFR part 178. You must file your objection or request a hearing on this regulation in accordance with the instructions provided in 40 CFR part 178. To ensure proper receipt by EPA, you must identify docket ID number EPA-HQ-OPP-2002-0043 in the subject line on the first page of your submission. All requests must be in writing, and must be mailed or delivered to the Hearing Clerk on or before November 19, 2007.

In addition to filing an objection or hearing request with the Hearing Clerk as described in 40 CFR part 178, please submit a copy of the filing that does not contain any CBI for inclusion in the public docket that is described in ADDRESSES. Information not marked confidential pursuant to 40 CFR part 2 may be disclosed publicly by EPA without prior notice. Submit your copies, identified by docket ID number EPA-HQ-OPP-2002-0043, by one of the following methods.

• Federal eRulemaking Portal: http://www.regulations.gov. Follow the on-line instructions for submitting comments.

• Mail. Office of Pesticide Programs (OPP) Regulatory Public Docket (7502P), Environmental Protection Agency, 1200 Pennsylvania Ave., NW., Washington, DC 20460-0001.

• Delivery. OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

II. Background

EPA's Office of Pesticide Programs (OPP) has developed a commodity vocabulary data base entitled “Food and Feed Commodity Vocabulary.” The data base was developed to consolidate all the major OPP commodity vocabularies into one standardized vocabulary. As a result, all future pesticide tolerances issued under 40 CFR part 180 will use the “preferred commodity term” as listed in the aforementioned data base. This is the sixth in a series of documents revising the terminology of commodity terms currently in tolerances in 40 CFR part 180. Final rules, revising pesticide tolerance nomenclature, were published in the Federal Register on June 19, 2002 (67 FR 41802) (FRL-6835-2); June 21, 2002 (67 FR 42392) (FRL-7180-1); on July 1, 2003 (68 FR 39428) (FRL-7308-9); (68 FR 39435) (FRL-7316-9); and December 13, 2006 (71 FR 74802) (FRL-8064-3).

A.What action is the Agency Taking?

In this rule, EPA is amending tolerance commodity terms as follows:

1. The first letter of the commodity term is capitalized. All other letters, including the first letter of proper names, are changed to lower case.

2. Commodity terms are listed in the singular, although there are the following exceptions: “leaves”, “roots”, “tops”, “greens”, “hulls”, “vines”, “fractions”, “shoots”, and “byproducts”.

3. Commodity terms are amended so that generic terms precede modifying terms. Example - “Aspirated grain fractions” is replaced with “Grain, aspirated fractions”.

4. Parentheses are replaced with commas. Examples: “Almond (hulls)” is replaced with “Almond, hulls”. “Peppermint (tops)” is replaced with “Peppermint, tops”. “Sugarcane (cane)” is replaced with “Sugarcane, cane”.

5. Abbreviated terms are replaced with the appropriate commodity terms. Examples - “Cattle, mbyp”; “Goat, mbyb”; “Hog, mbyp”; “Horse, mbyp” and “Sheep, mbyp” are replaced with “Cattle, meat byproducts”; “Goat, meat byproducts”; “Hog, meat byproducts”; “Horse, meat byproducts” and “Sheep, meat byproducts”.

6. Crop group terms are revised to standardize with the Food and Feed Vocabulary. Examples of these types of changes are:

“Leafy vegetables except Brassica” is replaced with “Vegetable, leafy, except brassica, group 4”.

“Brassica, head and stem, subgroup” is replaced with “Brassica, head and stem, subgroup 5A”.

“Cucurbit, vegetables (Group 9)” is replaced with “Vegetable, cucurbit, group 9”.

“Dried, shelled pea and bean, except soybean (Crop Subgroup 6C)” is replaced with “Pea and bean, dried shelled, except soybean, subgroup 6C”.

“Forage, fodder and straw of Grain, cereal” is replaced with “Grain, cereal, forage, fodder and straw, group 16”.

“Nongrass animal feed” is replaced with “Animal feed, nongrass, group 18”.

B. Additional Changes

In addition to format changes to the commodity terms, this document also includes many revisions to the commodity terms. These revisions replace certain commodity terms that are no longer used by EPA with the appropriate matching term in the “Food and Feed Vocabulary”. For example:

“Dry bulb onion” and “Onion, dry bulb” are replaced with “Onion, bulb”. “Filbert” is replaced with “Hazelnut”. “Peppermint” and “Spearmint” are replaced with “Peppermint, tops” and “Spearmint, tops”. “Cotton seed” and “Cottonseed” are replaced with “Cotton, undelinted seed”. “Beet, sugar” is replaced with “Beet, sugar, roots”. “Sorghum, grain” is replaced with “Sorghum, grain, grain”. “Sugarcane, fodder” is replaced with “Sugarcane, stover”.

“Corn, fresh (inc sweet corn), kernel plus cob with husks removed”; “Corn, fresh (inc sweet, kernel plus cob with husks removed)”; “Corn, fresh (inc. sweet, kernel plus cob with husks removed)”; “Corn, fresh (including sweet K and corn with husks removed (CWHR)”; “Corn, fresh (including sweet kernels plus cobs with husks removed)”; “Corn, fresh (including sweet, kernel plus cob with husks removed)”; “Corn, fresh, sweet, kernel plus cob with husks removed”; “Corn, sweet grain, kernel plus cob with husks removed”; and “Corn, sweet kernel plus cob with husks removed” are replaced with “Corn, sweet, kernel plus cob with husks removed”.

“Potato processing waste”; “Potato, waste”; “Potato, waste, dried, processed”; “Potato waste, processed (wet and dry)”; and “Processed, dried potato waste”; are replaced with “Potato, processed potato waste”.

This document also deletes certain terms that are not needed to identify the tolerance commodities.

Examples:

1. The terms “nutmeat” and “nutmeats” when used in association with the tree nut crops or peanut are not needed. For tree nut crops, nutmeat and almond hulls are the only edible portions of the crop consumed. Therefore, OPP's Food and Feed Commodity Vocabulary uses the commodity terms “Almond”, “Pecan”, “Walnut”, etc. for the tree nuts and the commodity term “Peanut” is used in place of “Peanut, nutmeat”.

2. The term “Endive (escarole)” is changed to “Endive” since the term “Endive” includes escarole.

3. The term “Banana (includes plantains)” is changed to “Banana” since the Food and Feed Vocabulary uses the term “Banana” includes plantains.

4. The terms “Ginger, roots” and “Ginseng, roots” are changed to “Ginger” and “Ginseng” since the roots are the only edible portion of the crop generally consumed.

C. Why is this Technical Amendment Issued as a Final Rule?

Section 553 of the Administrative Procedure Act (APA), 5 U.S.C.553(b)(B), provides that, when an agency for good cause finds that notice and public procedure are impracticable, unnecessary or contrary to the public interest, the agency may issue a rule without providing notice and an opportunity for public comment. EPA has determined that there is good cause for making today's technical amendment final without prior proposal and opportunity for comment, because today's action revises commodity terms listed under 40 CFR part 180, subpart C, in a manner that clearly will have no impact on the meaning of the tolerance regulations. For example, today's action revises commodity terms so that most are in singular (e.g., “Orange”) instead of the plural (e.g., “Oranges”). A complete description of the types of changes that are being made has been provided above. EPA has determined that there is no need for public comment on such ministerial changes and thus that there is good cause under 5 U.S.C. 553(b)(B) for dispensing with public comment. While EPA believes that it has correctly identified all instances where these above-listed revisions need to be made, the Agency would appreciate readers notifying EPA of discrepancies, omissions, or technical problems by submitting them to the address or e-mail under FOR FURTHER INFORMATION CONTACT. These will be corrected in a future rule.

IV. Statutory and Executive Order Reviews

This final rule makes technical amendments to the Code of Federal Regulations which have no substantive impact on the underlying regulations, and it does not otherwise impose or amend any requirements. As such, the Office of Management and Budget (OMB) has determined that a technical amendment is not a “significant regulatory action” subject to review by OMB under Executive Order 12866, entitled Regulatory Planning and Review (58 FR 51735, October 4, 1993). Because this final rule has been exempted from review under Executive Order 12866 due to its lack of significance, this final rule is not subject to Executive Order 13211, Actions Concerning Regulations That Significantly Affect Energy Supply, Distribution, or Use (66 FR 28355, May 22, 2001). This final rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). The Regulatory Flexibility Act (RFA) (5 U.S.C. 601et seq.) generally requires an agency to prepare a regulatory flexibility analysis of any rule subject to notice and comment rulemaking requirements under the Administrative Procedure Act or any other statute unless the agency certifies that the rule will not have a significant impact on a substantial number of small entities. Small entities include small businesses, small organizations, and small governmental organizations. After considering the economic impacts of today's final rule on small entities, I certify that this action will not have a significant economic impact on a substantial number of small entities. This action proposes technical amendments to the Code of Federal Regulations which have no substantive impact on the underlying regulations. This technical amendment will not have any negative economic impact on any entities, including small entities. In addition, the Agency has determined that this action will not have a substantial direct effect on States, on the relationship between the national government and the States, or on the distribution of power and responsibilities among the various levels of government, as specified in Executive Order 13132, entitled Federalism (64 FR 43255, August 10, 1999).Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This final rule directly regulates growers, food processors, food handlers and food retailers, not States. This action does not alter the relationships or distribution of power and responsibilities established by Congress in the preemption provisions of section 408(n)(4) of the FFDCA. For these same reasons, the Agency has determined that this final rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive Order to include regulations that have “substantial direct effects on one or more Indian tribes, on the relationship between the Federal Government and the Indian tribes, or on the distribution of power and responsibilities between the Federal Government and Indian tribes.” This final rule will not have substantial direct effects on tribal governments, on the relationship between the Federal Government and Indian tribes, or on the distribution of power and responsibilities between the Federal Government and Indian tribes, as specified in Executive Order 13175. Thus, Executive Order 13175 does not apply to this final rule.

V. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

Lists of Subjects in 40 CFR Part 180

Environmental protection, Administrative practice and procedure, Agricultural commodities, Pesticides and pest, Reporting and recordkeeping requirements.

Dated: September 4, 2007.
Debra Edwards,
Director, Office of Pesticide Programs.

Therefore, 40 CFR chapter I, part 180 is amended as follows:

PART 180—[AMENDED]

1. The authority citation for part 180 continues to read as follows:

Authority: 21 U.S.C. 321(q), 346a, and 371.

PART 180—[AMENDED]

2. Part 180 is amended as follows:

In Section | In paragraph | Remove the term or phrase | Add in its place the term or phrase
180.103 | (a) table | Soybean, dry | Soybean, seed
180.103 | (a) table | Soybean, succulent | Soybean, vegetable, succulent
180.106 | (a)(1) table | Fruit, citrus, | Fruit, citrus
180.106 | (a)(1) table | Grass, hay (other than Bermudagrass, hay) | Grass, hay, except bermudagrass
180.106 | (a)(1) table | Sorghum, grain | Sorghum, grain, grain
180.106 | (b) table | Catfish fillets | Catfish
180.110 | (a) table | Carrot,roots | Carrot, roots
180.111 | (a)(1) table | Chayote fruit | Chayote, fruit
180.111 | (a)(1) table | Chayote roots | Chayote, roots
180.111 | (a)(1) table | Filbert | Hazelnut
180.111 | (a)(1) table | Corn, fresh (including sweet, kernel plus cob with husks removed) | Corn, sweet, kernel plus cob with husks removed
180.111 | (a)(1) table | Peppermint | Peppermint, tops
180.111 | (a)(1) table | Sorghum, grain, postharvest | Sorghum, grain, grain, postharvest
180.111 | (a)(1) table | Vegetables, leafy (except Brassica) | Vegetable, leafy, except brassica, group 4
180.111 | (a)(3) text | refined safflower oil | safflower, refined oil
180.111 | (a)(5)(i) text | dehydrated citrus pulp | citrus, dried pulp
180.111 | (a)(5)(i) text | dried citrus pulp | citrus, dried pulp
180.121 | (a) table | Beet, sugar | Beet, sugar, roots
180.121 | (a) table | Beet, sugar, top | Beet, sugar, tops
180.123 | (a)(1) table | Ginger, roots, postharvest | Ginger, postharvest
180.123 | (c) table | Ginger, roots, postharvest | Ginger, postharvest
180.142 | (a)(2) table | Corn, fresh, sweet, kernel plus cob with husks removed | Corn, sweet, kernel plus cob with husks removed
180.142 | (a)(2) table | Grass hay | Grass, hay
180.142 | (a)(2) table | Sorghum, grain | Sorghum, grain, grain
180.142 | (a)(12)(i) text | sugarcane bagasse | sugarcane, bagasse
180.145 | (a)(3) table | Fruit, dried , postharvest (other than raisin) | Fruit, dried, except grape, raisin, postharvest
180.153 | (a)(1) table | Filbert | Hazelnut
180.153 | (a)(1) table | Ginseng, roots | Ginseng
180.153 | (a)(1) table | Onion, dry bulb | Onion, bulb
180.153 | (c) table | Radish, Chinese (roots) | Radish, oriental, roots
180.153 | (c) table | Radish, Chinese (tops) | Radish, oriental, tops
180.154 | (a) table | Filbert | Hazelnut
180.157 | (a) table | Melon (incl. Cantaloupe, Melon, honeydew, and muskmelon, determined on the edible portion with rind removed) | Melon (determined on the edible portion with rind removed)
180.163 | (a)(1) table | Peppermint, hay | Peppermint, tops
180.169 | (a)(1) table | Filbert (hazelnuts) | Hazelnut
180.169 | (a)(1) table | Salsify (roots) | Salsify, roots
180.175 | (a)(1) table | Onion, dry bulb | Onion, bulb
180.176 | (a) table | Beet, sugar | Beet, sugar, roots
180.176 | (a) table | Fresh corn (including sweet corn, kernels plus cob with husk removed) | Corn, sweet, kernel plus cob with husks removed
180.176 | (a) table | Onion, dry bulb | Onion, bulb
180.176 | (a) table | Peanut vine hay | Peanut, hay
180.176 | (a) table | Popcorn grain | Corn, pop, grain
180.185 | (a) table | Rutabagas | Rutabaga
180.205 | (a) table | Beet, sugar | Beet, sugar, roots
180.205 | (a) table | Sorghum, grain | Sorghum, grain, grain
180.206 | (a) table | Sorghum, grain | Sorghum, grain, grain
180.207 | (a) table | Peppermint oil | Peppermint, oil
180.207 | (a) table | Spearmint oil | Spearmint, oil
180.209 | (a) table | Canebserry | Caneberry subgroup 13A
180.211 | (a) table | Sorghum, grain | Sorghum, grain, grain
180.213 | (a)(1) table | Artichoke,globe | Artichoke, globe
180.213 | (a)(1) table | Filbert | Hazelnut
180.220 | (a)(1) table | Rye grass, perennial | Ryegrass, perennial
180.220 | (a)(1) table | Sorghum, grain | Sorghum, grain, grain
180.220 | (a)(1) table | Sugarcane, fodder | Sugarcane, stover
180.221 | (a) table | Corn, sweet kernel plus cob with husks removed | Corn, sweet, kernel plus cob with husks removed
180.225 | (a)(1) table | Banana (includes Plantains) | Banana
180.225 | (a)(1) table | Filbert | Hazelnut
180.225 | (a)(2) table | All RACs resulting from preharvest treatment of pest burrows | All raw agricultural commodities resulting from preharvest treatment of pest burrows
180.227 | (a)(1) table | Crop Group 17 (grass, forage, fodder and hay) | Grass, forage, fodder and hay, group 17
180.227 | (a)(1) table | Sorghum, grain | Sorghum, grain, grain
180.227 | (a)(1) table | Sugarcane, fodder | Sugarcane, stover
180.231 | (a) table | Filbert | Hazelnut
180.241 | (a) table | Onion, dry bulb | Onion, bulb
180.242 | (a)(1) table | Potato processing waste (PRE- & POST-H) | Potato, processed potato waste, postharvest
180.243 | table | Sorghum, grain | Sorghum, grain, grain
180.245 | (a)(1) table | Pome, fruit | Fruit, pome
180.249 | table | Sorghum, grain (milo) | Sorghum, grain, grain
180.253 | (a) table | Corn, fresh (inc sweet, kernel plus cob with husks removed) | Corn, sweet, kernel plus cob with husks removed
180.253 | (a) table | Grass, Bermuda, hay (dried and dehydrated) | Bermudagrass, hay
180.254 | (a) table | Barley straw (of which not more than 1.0 ppm is carbamates) | Barley, straw (of which no more than 1.0 ppm is carbamates)
180.254 | (a) table | Beet, sugar | Beet, sugar, roots
180.254 | (a) table | Corn, fresh (including sweet corn), kernel plus cob with husks removed (of which not more than 0.2 ppm is cabamates) | Corn, sweet, kernel plus cob with husks removed (of which no more than 0.2 ppm is carbamates)
180.254 | (a) table | Raisins, waste (of which no more than 3.0 ppm is carbamates | Grape, raisin, waste (of which no more than 3.0 ppm is carbamates)
180.254 | (a) table | Sorghum, fodder (of which no more than 0.5 ppm is carbamates) | Sorghum, grain, stover (of which no more than 0.5 ppm is carbamates)
180.254 | (a) table | Sorghum, grain | Sorghum, grain, grain
180.258 | (a) table | Sugarcane, fodder | Sugarcane, stover
180.258 | (c) table | Cassava, root | Cassava, roots
180.259 | (a) table | Sorghum, grain | Sorghum, grain, grain
180.261 | (a) table | Cattle, mby | Cattle, meat byproducts
180.269 | (a) table | Beet, sugar | Beet, sugar, roots
180.269 | (a) table | Sorghum, grain | Sorghum, grain, grain
180.269 | (a) table | Sugarcane, fodder | Sugarcane, stover
180.275 | (a)(1) table | Onion, dry bulb | Onion, bulb
180.275 | (c) table | Filbert | Hazelnut
180.298 | (a) table | Fruit, citrus (except mandarins) | Fruit, citrus, except tangerine
180.298 | (a) table | Sorghum, grain | Sorghum, grain, grain
180.304 | (a) table | Berry, group 13 | Berry group 13
180.317 | (a) table | Cattle, meat byproducts, except kidney, liver | Cattle, meat byproducts, except kidney and liver
180.317 | (a) table | Goat, meat byproducts, except kidney, liver | Goat, meat byproducts, except kidney and liver
180.317 | (a) table | Hog, meat byproducts, except kidney, liver | Hog, meat byproducts, except kidney and liver
180.317 | (a) table | Horse, meat byproducts, except kidney, liver | Horse, meat byproducts, except kidney and liver
180.317 | (a) table | Nongrass animal feed | Animal feed, nongrass, group 18
180.317 | (a) table | Poultry, meat byproductsidney, liver | Poultry, meat byproducts
180.317 | (a) table | Radicchio, greens (tops) | Radicchio
180.317 | (a) table | Sheep, meat byproducts, except kidney, liver | Sheep, meat byproducts, except kidney and liver
180.324 | (a)(1) table | Sorghum, grain | Sorghum, grain, grain
180.330 | (a) table | Beet, sugar | Beet, sugar, roots
180.330 | (a) table | Filbert | Hazelnut
180.330 | (a) table | Onion, dry bulb | Onion, bulb
180.342 | (a)(1) table | Onion, dry bulb | Onion, bulb
180.342 | (a)(2) table | Milk, whole | Milk
180.342 | (c)(2) table | Feijoa (pineapple guava) | Feijoa
180.345 | (a)(2) table | Sugar beet molasses | Beet, sugar, molasses
180.349 | (a)(1) table | Grape, raisins | Grape, raisin
180.349 | (c) table | Bok choy | Cabbage, chinese, bok choy
180.352 | (a) table | Sorghum, grain | Sorghum, grain, grain
180.352 | (b) table | Coffee bean, green¹ | Coffee, bean, green¹
180.355 | (a)(1) table | Sorghum, grain | Sorghum, grain, grain
180.356 | (a) table | Cattle, mbyb, except liver | Cattle, meat byproducts, except liver
180.356 | (a) table | Filbert | Hazelnut
180.356 | (a) table | Goat, mbyb, except liver | Goat, meat byproducts, except liver
180.356 | (a) table | Hog, mbyb, except liver | Hog, meat byproducts, except liver
180.356 | (a) table | Horse, mbyb, except liver | Horse, meat byproducts, except liver
180.356 | (a) table | Sheep, mbyb, except liver | Sheep, meat byproducts, except liver
180.361 | (a) table | Carrots | Carrot
180.361 | (a) table | Onion, dry bulb | Onion, bulb
180.364 | (a) table | Berry, group 13 | Berry group 13
180.364 | (a) table | Galangal, root | Galangal, roots
180.364 | (a) table | Vegetable, foliage of legume subgroup 7A, except soybean | Vegetable, foliage of legume, except soybean, subgroup 7A
180.364 | (a) table | Vegetable, leafy, group 4 | Vegetable, leafy, except brassica, group 4
180.368 | (a)(1) table | Nongrass animal feed (forage, fodder, straw, and hay) group | Animal feed, nongrass, group 18
180.368 | (a)(1) table | Seed and pod vegetables (except soybean) | Vegetable, seed and pod, except soybean
180.368 | (a)(1) table | Sorghum, grain | Sorghum, grain, grain
180.368 | (a)(3) table | Horse, meat byproducts, except, kidney and liver | Horse, meat byproducts, except kidney and liver
180.368 | (a)(3) table | Onion, dry bulb | Onion, bulb
180.368 | (a)(3) table | Vegetable, fruiting group 8, (except tabasco pepper) | Vegetable, fruiting, group 8, except tabasco pepper
180.368 | (a)(3) table | Vegetable, leaf petioles, subgroup 4B | Leaf petioles subgroup 4B
180.368 | (a)(3) table | Vegetable, legume, pea and bean, dried shelled, (except soybean) subgroup 6C | Pea and bean, dried shelled, except soybean, subgroup 6C
180.368 | (a)(3) table | Vegetable, root, (except sugar beet) subgroup 1B | Vegetable, root, except sugar beet, subgroup 1B
180.368 | (a)(3) table | Vegetables, tuberous and corm, subgroup 1C | Vegetable, tuberous and corm, subgroup 1C
180.368 | (c) table | Onion, dry bulb | Onion, bulb
180.368 | (d) table | Nongrass, animal feed (forage, fodder, straw, hay) group 18 | Animal feed, nongrass, group 18
180.377 | (a) (2) table | Almond, hulls | Almond, hulls
180.378 | (b) table | Filbert | Hazelnut
180.378 | (b) table | Onion, dry bulb | Onion, bulb
180.379 | (a)(1) table | Corn, sweet, kernels and cobs | Corn, sweet, kernel plus cob with husks removed
180.379 | (a)(1) table | Filbert | Hazelnut
180.379 | (a)(3) table | Soybean hulls | Soybean, hulls
180.381 | (a) table | Banana (including plantain) | Banana
180.381 | (a) table | Onion, dry bulb | Onion, bulb
180.399 | (a)(1) table | Cherry (sweet), postharvest | Cherry, sweet, postharvest
180.399 | (a)(1) table | Onion, dry bulb | Onion, bulb
180.407 | (a) table | Corn, sweet grain, kernel plus cob with husks removed | Corn, sweet, kernel plus cob with husks removed
180.407 | (a) table | Leafy vegetables (except Brassica vegetables) | Vegetable, leafy, except brassica, group 4
180.408 | (a) table | Apricot (dried) | Apricot, dried
180.408 | (a) table | Grain, cereal (except wheat, barley, and oats) | Grain, cereal, group 15, except barley, oat and wheat
180.408 | (a) table | Onion, dry bulb | Onion, bulb
180.408 | (a) table | Peanut, nut | Peanut
180.408 | (a) table | Potato waste, dried, processed | Potato, processed potato waste
180.408 | (a) table | Vegetable, legume, foliage | Vegetable, foliage of legume, group 7
180.408 | (d) table | Grain, cereal group (except wheat, barley, and oats), fodder | Grain, cereal, forage, fodder and straw, group 16, except barley, oat, and wheat; stover
180.408 | (d) table | Grain, cereal group (except wheat, barley, and oats), forage | Grain, cereal, forage, fodder and straw, group 16, except barley, oat, and wheat; forage
180.408 | (d) table | Grain, cereal group (except wheat, barley, and oats), straw | Grain, cereal, forage, fodder and straw, group 16, except barley, oat, and wheat; straw
180.410 | (a) table | Beet, sugar | Beet, sugar, roots
180.411 | (a)(2) table | Onion (bulb) | Onion, bulb
180.412 | (a) table | Corn, sweet stover | Corn, sweet, stover
180.412 | (a) table | Peppermint, tops (stems and leaves) | Peppermint, tops
180.412 | (a) table | Potato flakes | Potato, granules/flakes
180.412 | (a) table | Potato waste, processed (wet and dry) | Potato, processed potato waste
180.412 | (a) table | Spearmint, tops (stems and leaves) | Spearmint, tops
180.412 | (a) table | Sunflower meal | Sunflower, meal
180.414 | (a)(1) table | Bean, dry, except cowpea | Bean, dry, except cowpea
180.414 | (a)(1) table | Onion, dry bulb | Onion, bulb
180.414 | (d) table | Radish, root | Radish, roots
180.414 | (d) table | Radish, tops (leaves) | Radish, tops
180.415 | (a) table | Leafy vegetables (except brassica vegetables) group | Vegetable, leafy, except brassica, group 4
180.415 | (a) table | Onion, dry bulb | Onion, bulb
180.418 | (a)(1) table | Onion, dry bulb | Onion, bulb
180.418 | (a)(1) table | Vegetable, brassica, leafy group 5 | Brassica, leafy greens, subgroup 5B
180.418 | (a)(2) table | Berry, group 13 | Berry group 13
180.418 | (a)(2) table | Dried, shelled pea and bean, except soybean (Crop subgroup 6C) | Pea and bean, dried shelled, except soybean, subgroup 6C
180.418 | (a)(2) table | Edible podded legume vegetables (Crop subgroup 6A) | Vegetable, legume, edible podded, subgroup 6A
180.418 | (a)(2) table | Grass, forage, group 17 | Grass, forage, fodder, and hay, group 17, forage
180.418 | (a)(2) table | Grass, hay, group 17 | Grass, forage, fodder, and hay, group 17, hay
180.418 | (a)(2) table | Leafy vegetables except, Brassica | Vegetable, leafy, except brassica, group 4
180.418 | (a)(2) table | Onion, dry bulb | Onion, bulb
180.418 | (a)(2) table | Sorghum, grain | Sorghum, grain, grain
180.418 | (a)(2) table | Succulent, shelled pea and bean (Crop subgroup 6B) | Pea and bean, succulent shelled, subgroup 6B
180.418 | (a)(2) table | Vegetable, fruiting, except cucurbits (Crop Group 8) | Vegetable, fruiting, group 8
180.420 | (b) table | Cattle, meat, except kidney and liver | Cattle, meat
180.420 | (b) table | Goat, meat, except kidney and liver | Goat, meat
180.420 | (b) table | Hog, meat, except kidney and liver | Hog, meat
180.420 | (b) table | Horse, meat, except kidney and liver | Horse, meat
180.420 | (b) table | Poultry liver | Poultry, liver
180.420 | (b) table | Poultry, meat, except kidney and liver | Poultry, meat
180.420 | (b) table | Sheep, meat, except kidney and liver | Sheep, meat
180.420 | (c) table | Root crops, vegetables | Vegetable, root crop
180.430 | (a) table | Peanut hulls | Peanut, hulls
180.431 | (a) table | Mustard, greens | Mustard greens
180.432 | (a) table | Beans, snap, succulent (excluding limas) | Bean, snap, succulent, except lima bean
180.434 | (a) table | Berry, group 13 | Berry group 13
180.434 | (a) table | Leaf petioles, subgroup 4B | Leaf petioles subgroup 4B
180.435 | (a)(1) table | Apples, wet pomace | Apple, wet pomace
180.435 | (a)(1) table | Onion, dry bulb | Onion, bulb
180.435 | (a)(1) table | Radish tops | Radish, tops
180.435 | (a)(1) table | Sorghum, grain forage | Sorghum, grain, forage
180.435 | (a)(1) table | Sorghum, grain stover | Sorghum, grain, stover
180.435 | (a)(1) table | Sunflower seed | Sunflower, seed
180.436 | (a)(1) table | Turnips, greens | Turnip, greens
180.438 | (a)(1) table | Vegetables, fruiting, group 8 | Vegetable, fruiting, group 8
180.438 | (a)(1) table | Vegetables, legume, edible podded, subgroup 6A | Vegetable, legume, edible podded, subgroup 6A
180.438 | (a)(2) table | Apple, wet pomace | Apple, pomace, wet
180.438 | (a)(2) table | Milk fat (reflecting 0.20 ppm in whole milk | Milk, fat (reflecting 0.20 ppm in whole milk)
180.438 | (a)(2) table | Sunflower, seed hulls | Sunflower, seed, hulls
180.440 | (a) table | Corn, fresh (including sweet K and corn with husks removed (CWHR) | Corn, sweet, kernel plus cob with husks removed
180.441 | (a)(1) table | Soybean flour | Soybean, flour
180.441 | (a)(4) table | Beet, sugar root | Beet, sugar, roots
180.442 | (a)(1) table | Horse, mby | Horse, meat byproducts
180.443 | (a) table | Fruit, stone (except cherry) | Fruit, stone, except cherry
180.446 | (a)(1) table | Grapes | Grape
180.446 | (a)(1) table | Persimmons | Persimmon
180.447 | (a)(1) table | Soybeans | Soybean
180.447 | (a)(2) table | Alfalfa, seed screening | Alfalfa, seed screenings
180.447 | (a)(2) table | Animal feed, nongrass, group, forage | Animal feed, nongrass, group 18, forage
180.447 | (a)(2) table | Animal feed, nongrass, group, hay | Animal feed, nongrass, group 18, hay
180.447 | (c) table | Endive (escorole) | Endive
180.449 | (a) table | Cucurbits (cucumber, mellons, and squashes) | Vegetable, cucurbit, group 9
180.449 | (a) table | Herbs, crop subgroup 19A (except chives) | Herb subgroup 19A, except chive
180.449 | (a) table | Vegetable, fruiting, crop group 8 | Vegetable, fruiting, group 8
180.449 | (a) table | Vegetable, leafy, except Brassica, crop group 4 | Vegetable, leafy, except brassica, group 4
180.450 | (a) table | Sorghum, grain | Sorghum, grain, grain
180.451 | (c) table | Grass, forage, fodder and hay, group (except Bermudagrass); forage | Grass, forage, fodder and hay, group 17, except bermudagrass; forage
180.451 | (c) table | Grass, forage, fodder and hay, group (except Bermudagrass); hay | Grass, forage, fodder and hay, group 17, except bermudagrass; hay
180.452 | (a) table | Corn, fresh (including sweet kernels plus cobs with husks removed) | Corn, sweet, kernel plus cob with husks removed
180.454 | table | Corn, sweet, fodder (stover) | Corn, sweet, stover
180.458 | (a)(3) table | Onion, dry bulb | Onion, bulb
180.464 | (a) table | Onion, dry bulb | Onion, bulb
180.464 | (a) table | Peanut, nutmeat | Peanut
180.464 | (a) table | Sorghum, grain | Sorghum, grain, grain
180.466 | (a) table | Melon subgroup 9-A | Melon subgroup 9A
180.466 | (a) table | Milkfat (reflecting 0.08 ppm in whole milk) | Milk, fat (reflecting 0.08 ppm in whole milk)
180.468 | table | Beans (dry) | Bean, dry
180.472 | (a) table | Coffee, green bean | Coffee, bean, green
180.472 | (a) table | Oats, forage | Oat, forage
180.472 | (a) table | Oats, grain | Oat, grain
180.472 | (a) table | Oats, hay | Oat, hay
180.472 | (a) table | Oats, straw | Oat, straw
180.472 | (a) table | Potato, waste | Potato, processed potato waste
180.472 | (a) table | Sorghum, grain | Sorghum, grain, grain
180.472 | (a) table | Sorgum, stover | Sorghum, grain, stover
180.472 | (a) table | Vegetable, legume, except soybean, group 6 | Vegetable, legume, group 6, except soybean
180.472 | (d) table | Forage, fodder, and straw of Grain, cereal crop group (forage) | Grain, cereal, forage, fodder and straw, group 16; forage
180.472 | (d) table | Forage, fodder, and straw of Grain, cereal crop group (hay) | Grain, cereal, forage, fodder and straw, group 16; hay
180.472 | (d) table | Forage, fodder, and straw of Grain, cereal crop group (stover) | Grain, cereal, forage, fodder and straw, group 16; stover
180.472 | (d) table | Forage, fodder, and straw of Grain, cereal crop group (straw) | Grain, cereal, forage, fodder and straw, group 16; straw
180.472 | (d) table | Vegetable, legume, crop group 6 | Vegetable, legume, group 6
180.473 | (a)(1) table | Potato granules and flakes | Potato, granules/flakes
180.473 | (a)(2) table | Aspirated grain fractions | Grain, aspirated fractions
180.473 | (a)(2) table | Beet, sugar, tops (leaves) | Beet, sugar, tops
180.473 | (a)(2) table | Rice, hull | Rice, hulls
180.476 | (a)(1) table | Filbert | Hazelnut
180.477 | (a) table | Cotton gin by products | Cotton, gin byproducts
180.479 | (a)(2) table | Corn, sweet, fodder/stover | Corn, sweet, stover
180.479 | (a)(2) table | Sorghum, grain, fodder/stover | Sorghum, grain, stover
180.481 | table | Grain, cereal group (except rice and wild rice), fodder | Grain, cereal, forage, fodder and straw, group 16, except rice and wild rice; stover
180.481 | table | Grain, cereal group (except rice and wild rice), forage | Grain, cereal, forage, fodder and straw, group 16, except rice and wild rice; forage
180.481 | table | Grain, cereal group (except rice and wild rice), grain | Grain, cereal, group 15, except rice and wild rice
180.481 | table | Grain, cereal group (except rice and wild rice), hay | Grain, cereal, forage, fodder and straw, group 16, except rice and wild rice; hay
180.481 | table | Grain, cereal group (except rice and wild rice), straw | Grain, cereal, forage, fodder and straw, group 16, except rice and wild rice; straw
180.482 | (a)(1) table | Vegetable, fruiting (Except cucurbits) | Vegetable, fruiting, group 8
180.482 | (a)(1) table | Vegetable, tuberous and corm (except potato), subgroup 1D | Vegetable, tuberous and corm, except potato, subgroup 1D
180.482 | (d) table | Forage, fodder, hay and straw of grain, cereal, group 16 | Grain, cereal, forage, fodder and straw, group 16
180.482 | (d) table | Forage, fodder, straw and hay of non-grass animal feed, group 18 | Animal feed, nongrass, group 18
180.484 | (a)(1) table | Peanut meal | Peanut, meal
180.484 | (a)(1) table | Poultry (including turkeys), fat | Poultry, fat
180.484 | (a)(1) table | Poultry (including turkeys), meat | Poultry, meat
180.484 | (a)(1) table | Poultry (including turkeys), meat byproducts | Poultry, meat byproducts
180.486 | table | Corn, sweet, stover (fodder) | Corn, sweet, stover
180.489 | (a) table | Crop group 2: Leaves of root and tuber vegetables (human food or animal feed (except radish) group (of which no more than 0.20 ppm is TSM) | Vegetable, leaves of root and tuber, group 2, except radish (of which no more than 0.20 ppm is TMS)
180.489 | (a) table | Crop group 8: Vegetable, fruiting (except cucurbits) group | Vegetable, fruiting, group 8
180.489 | (a) table | Crop subgroup 1-A: Root vegetables (except radish) subgroup (of which no more than 0.10 ppm is TSM) | Vegetable, root, subgroup 1A, except radish (of which no more than 0.10 ppm is TMS)
180.489 | (a) table | Crop sugroup 1-C: Tuberous and corm vegetables subgroup (of which no more than 0.50 ppm is TSM) | Vegetable, tuberous and corm, subgroup 1C (of which no more than 0.50 ppm is TMS)
180.489 | (a) table | Crop subgroup 6-A: Edible-podded legume vegetables subgroup (of which no more than 0.3 ppm is TSM) | Vegetable, legume, edible podded, subgroup 6A (of which no more than 0.3 ppm is TMS)
180.489 | (a) table | Crop subgroup 6-B: Succulent shelled pea and bean subgroup (of which no more than 0.1 ppm is TSM) | Pea and bean, succulent shelled, subgroup 6B (of which no more than 0.1 ppm is TMS)
180.489 | (a) table | Crop subgroup 6-C: Dried shelled pea and bean (except soybean and animal feed) subgroup (of which no more than 1.5 ppm is TSM) | Pea and bean, dried shelled, except soybean, subgroup 6C (of which no more than 1.5 ppm is TMS)
180.489 | (a) table | Prune (of which no more than 0.05 ppm is TMS) | Plum, prune (of which no more than 0.05 ppm is TMS)
180.489 | (a) table | Wheat shorts (of which no more than 0.5 ppm is TMS) | Wheat, shorts (of which no more than 0.5 ppm is TMS)
180.493 | (d) table | Grain, cereal group, fodder | Grain, cereal, forage, fodder and straw, group 16, stover
180.493 | (d) table | Grain, cereal group, forage | Grain, cereal, forage, fodder and straw, group 16, forage
180.493 | (d) table | Grain, cereal group, grain | Grain, cereal, group 15
180.493 | (d) table | Grain, cereal group, hay | Grain, cereal, forage, fodder and straw, group 16, hay
180.493 | (d) table | Grain, cereal group, straw | Grain, cereal, forage, fodder and straw, group 16, straw
180.494 | (a) table | Hog meat byproducts | Hog, meat byproducts
180.494 | (a) table | Horse meat | Horse, meat
180.494 | (a) table | Horse meat byproducts | Horse, meat byproducts
180.494 | (a) table | Nut tree, group 14 | Nut, tree, group 14
180.494 | (a) table | Sheep, meat by-product | Sheep, meat byproducts
180.495 | (a) table | Cranberry subgroup 13A | Caneberry subgroup 13A
180.495 | (a) table | Herb, dried, subgroup | Herb subgroup 19A, dried
180.495 | (a) table | Herb, fresh, subgroup | Herb subgroup 19A, fresh
180.495 | (a) table | Leafy vegetables (except Brassica vegetables group) | Vegetable, leafy, except brassica, group 4
180.495 | (a) table | Legume vegetables, dried shell pea and bean (Crop Subgroup 6C) | Pea and bean, dried shelled, except soybean, subgroup 6C
180.495 | (a) table | Legume vegetables, edible podded (Crop Subgroup 6A) | Vegetable, legume, edible podded, subgroup 6A
180.495 | (a) table | Legume vegetables, succulent shelled pea and bean (Crop Subgroup 6B) | Pea and bean, succulent shelled, subgroup 6B
180.495 | (a) table | Vegetable, cucurbit (cucumber, melon, squashes), group 9 | Vegetable, cucurbit, group 9
180.497 | (b) table | Grain, cereal group (except rice, wild rice, sweet corn and wheat), forage | Grain, cereal, forage, fodder and straw, group 16, except rice, sweet corn, wheat, and wild rice; forage
180.497 | (b) table | Grain, cereal group (except rice, wild rice, sweet corn and wheat), hay | Grain, cereal, forage, fodder and straw, group 16, except rice, sweet corn, wheat, and wild rice; hay
180.497 | (b) table | Grain, cereal group (except rice, wild rice, sweet corn and wheat), stover (fodder) | Grain, cereal, forage, fodder and straw, group 16, except rice, sweet corn, wheat, and wild rice; stover
180.497 | (b) table | Grain, cereal group (except rice, wild rice, sweet corn and wheat), straw | Grain, cereal, forage, fodder and straw, group 16, except rice, sweet corn, wheat, and wild rice; straw
180.497 | (b) table | Grain, cereal group (except rice, wild rice, sweet corn and wheat, grain | Grain, cereal, group 15, except rice, sweet corn, wheat, and wild rice
180.498 | (d) table | Grain, cereal (excluding sweet corn), Bran | Grain, cereal, group 15, except sweet corn; bran
180.498 | (d) table | Grain, cereal (excluding sweet corn), Forage | Grain, cereal, forage, fodder and straw, group 16, except sweet corn; forage
180.498 | (d) table | Grain, cereal (excluding sweet corn), Grain | Grain, cereal, group 15, except sweet corn
180.498 | (d) table | Grain, cereal (excluding sweet corn), Hay | Grain, cereal, forage, fodder and straw, group 16, except sweet corn; hay
180.498 | (d) table | Grain, cereal (excluding sweet corn), Stover | Grain, cereal, forage, fodder and straw, group 16, except sweet corn; stover
180.498 | (d) table | Grain, cereal (excluding sweet corn), Straw | Grain, cereal, forage, fodder and straw, group 16, except sweet corn; straw
180.500 | (a) | Cattle, meat byproducts (except kidney) | Cattle, meat byproducts, except kidney
180.500 | (a) | Goats, meat byproducts (except kidney) | Goat, meat byproducts, except kidney
180.500 | (a) | Horses, kidney | Horse, kidney
180.500 | (a) | Horses, meat byproducts (except kidney) | Horse, meat byproducts, except kidney
180.500 | (a) | Sheep, meat byproducts (except kidney) | Sheep, meat byproducts, except kidney
180.505 | (a)(1) table | Vegetable, fruiting (except Cucurbits), group 8 | Vegetable, fruiting, group 8
180.507 | (a)(1) table | Onion, dry bulb | Onion, bulb
180.507 | (a)(1) table | Vegetable, legume, edible podded, subgroup, except soybean | Vegetable, legume, edible podded, subgroup 6A, except soybean
180.510 | (a)(1) table | Fig, dried | Fig, dried fruit
180.510 | (a)(1) table | Onion, dry bulb | Onion, bulb
180.510 | (a)(1) table | White sapote | Sapote, white
180.510 | (a)(2) text | all foods | all food commodities
180.511 | (a) table | Almond hulls | Almond, hulls
180.511 | (a) table | Cotton seed | Cotton, undelinted seed
180.511 | (a) table | Custard, apple | Custard apple
180.511 | (a) table | Passion fruit | Passionfruit
180.515 | (a) table | Berry, group 13 | Berry group 13
180.515 | (a) table | Cotton, gin by products | Cotton, gin byproducts
180.515 | (a) table | Cotton, meals | Cotton, meal
180.515 | (a) table | Grain, cereal, hay | Grain, cereal, forage, fodder and straw, group 16, hay
180.515 | (a) table | Grain, cereal, stover | Grain, cereal, forage, fodder and straw, group 16, stover
180.515 | (a) table | Grain, cereal, straw (excluding rice) | Grain, cereal, forage, fodder and straw, group 16, except rice; straw
180.515 | (a) table | Herb and Spices, group 19 | Herbs and spices group 19
180.515 | (a) table | Kiwi fruit | Kiwifruit
180.515 | (a) table | Pusalan | Pulasan
180.515 | (a) table | Sugar, apple | Sugar apple
180.515 | (a) table | Vegetable, brassica, leafy, group 05 | Vegetable, brassica, leafy, group 5
180.515 | (a) table | Vegetable, bulb, group 03 | Vegetable, bulb, group 3
180.515 | (a) table | Vegetable, foliage of legume (except soybean), group 07 | Vegetable, foliage of legume, except soybean, subgroup 7A
180.515 | (a) table | Vegetable, leafy, except brassica, group 04 | Vegetable, leafy, except brassica, group 4
180.515 | (a) table | Vegetable, leaves of root and tuber, group 02 | Vegetable, leaves of root and tuber, group 2
180.515 | (a) table | Vegetable, legume, group 06 | Vegetable, legume, group 6
180.515 | (a) table | Vegetable, root and tuber, group 01 | Vegetable, root and tuber, group 1
180.515 | (a) table | Wax, Jambu | Wax jambu
180.516 | (a) table | Citrus, crop group 10 | Fruit, citrus, group 10
180.516 | (a) table | Forage, fodder, and straw of Grain, cereal | Grain, cereal, forage, fodder and straw, group 16
180.516 | (a) table | Herb and spicegroup 19 | Herbs and spices group 19
180.516 | (a) table | Herb, dried, subgroup 19A | Herb subgroup 19A, dried
180.516 | (a) table | Herb, fresh, subgroup 19A | Herb subgroup 19A, fresh
180.516 | (a) table | Leafy vegetables except Brassica | Vegetable, leafy, except brassica, group 4
180.516 | (a) table | Non-grass animal feed | Animal feed, nongrass, group 18
180.516 | (a) table | Onion, dry bulb | Onion, bulb
180.517 | (a) table | Hog Fat | Hog, fat
180.517 | (a) table | Hog Liver | Hog, liver
180.517 | (a) table | Hog Meat Byproducts, except liver | Hog, meat byproducts, except liver
180.517 | (a) table | Poultry Fat | Poultry, fat
180.517 | (a) table | Poultry Meat | Poultry, meat
180.518 | (a)(1) table | Fruit, citrus, group 10 (post-harvest) | Fruit, citrus, group 10, postharvest
180.518 | (a)(1) table | Fruit, stone (except cherry), group 12 | Fruit, stone, group 12, except cherry
180.518 | (a)(1) table | Onion, dry bulb | Onion, bulb
180.518 | (a)(2) table | Cattle, mbyp (except kidney) | Cattle, meat byproducts, except kidney
180.518 | (a)(2) table | Goat, mbyp (except kidney) | Goat, meat byproducts, except kidney
180.518 | (a)(2) table | Horse, mbyp (except kidney) | Horse, meat byproducts, except kidney
180.518 | (a)(2) table | Sheep, mbyp (except kidney) | Sheep, meat byproducts, except kidney
180.532 | (a)(1) table | Almond nutmeats | Almond
180.532 | (a)(1) table | Herb, subgroup 19A, dried | Herb subgroup 19A, dried
180.532 | (a)(1) table | Herb, subgroup 19A, fresh | Herb subgroup 19A, fresh
180.532 | (a)(2) table | Onion, dry bulb | Onion, bulb
180.533 | (a) table | Sorghum, grain | Sorghum, grain, grain
180.544 | (a)(1) table | Leaf petioles subgroup | Leaf petioles subgroup 4B
180.544 | (a)(1) table | Peppermint | Peppermint, tops
180.544 | (a)(1) table | Spearmint | Spearmint, tops
180.544 | (a)(1) table | Strawberries | Strawberry
180.544 | (a)(1) table | Vegetable, foliage of legume, (except soybean) subgroup 7A | Vegetable, foliage of legume, except soybean, subgroup 7A
180.544 | (b) table | Sorghum, grain | Sorghum, grain, grain
180.544 | (d)(2) table | Animal feed, non-grass, group | Animal feed, nongrass, group 18
180.544 | (d)(2) table | Grain, cereal, forage, fodder and straw, group | Grain, cereal, forage, fodder and straw, group 16
180.544 | (d)(2) table | Herb and spice, group | Herbs and spices group 19
180.551 | (a)(2) table | Cotton undelinted seed | Cotton, undelinted seed
180.553 | (a) table | Leafy greens, subgroup 4A, except spinach | Leafy greens subgroup 4A, except spinach
180.554 | (a)(1) table | Pecans | Pecan
180.555 | (a) table | Hog, meat, | Hog, meat
180.556 | (a) table | Vegetable, leafy, execpt brassica, group (Crop Group 4) | Vegetable, leafy, except brassica, group 4
180.561 | (b) table | Onion, dry bulb | Onion, bulb
180.562 | (a) table | Cattle, meat byproducts except liver | Cattle, meat byproducts, except liver
180.562 | (a) table | Goat, meat byproducts except liver | Goat, meat byproducts, except liver
180.562 | (a) table | Hog, meat byproducts except liver | Hog, meat byproducts, except liver
180.562 | (a) table | Horse, meat by-products except liver | Horse, meat byproducts, except liver
180.562 | (a) table | Sheep, meat byproducts except liver | Sheep, meat byproducts, except liver
180.565 | (a) table | Bushberry, subgroup 13B | Bushberry subgroup 13B
180.565 | (a) table | Peppermint | Peppermint, tops
180.565 | (a) table | Spearmint | Spearmint, tops
180.566 | (a)(1) table | Cotton undelinted seed | Cotton, undelinted seed
180.566 | (a)(2) table | Cattle, meat byproducts (excluding liver and kidney) | Cattle, meat byproducts, except kidney and liver
180.566 | (a)(2) table | Goat, meat byproducts (excluding liver and kidney | Goat, meat byproducts, except kidney and liver
180.566 | (a)(2) table | Horse, meat byproducts (excluding liver and kidney) | Horse, meat byproducts, except kidney and liver
180.566 | (a)(2) table | Sheep, meat byproducts (excluding liver and kidney | Sheep, meat byproducts, except kidney and liver
180.567 | (a)(2) table | Potato, granule/flakes | Potato, granules/flakes
180.568 | (a) table | Almond (hulls) | Almond, hulls
180.568 | (a) table | Almond (nutmeat) | Almond
180.568 | (a) table | Onion (dry bulb) | Onion, bulb
180.568 | (a) table | Peppermint (tops) | Peppermint, tops
180.568 | (a) table | Shallot (bulb) | Shallot, bulb
180.568 | (a) table | Spearmint (tops) | Spearmint, tops
180.568 | (a) table | Sugarcane (cane) | Sugarcane, cane
180.568 | (a) table | Tuberous/corm vegetables (Subgroup 1C) | Vegetable, tuberous and corm, subgroup 1C
180.573 | (a)(1) table | Cotton, undelinated seed | Cotton, undelinted seed
180.574 | (a)(2) table | Wine grape¹ | Grape, wine¹
180.575 | (a)(1) table | Sorghum, grain, postharvest | Sorghum, grain, grain, postharvest
180.578 | (a)(1) table | Fruit, pome group | Fruit, pome, group 11
180.579 | (a)(1) table | Onion, dry bulb | Onion, bulb
180.579 | (a)(1) table | Vegetable, tuberous and corm, subgroup 01C | Vegetable, tuberous and corm, subgroup 1C
180.579 | (a)(2) table | Beef, fat | Cattle, fat
180.579 | (a)(2) table | Beef, meat | Cattle, meat
180.579 | (a)(2) table | Beef, meat byproducts | Cattle, meat byproducts
180.579 | (a)(2) table | Sheep, meat byproduct | Sheep, meat byproducts
180.581 | (a) table | Tomatoes¹ | Tomato¹
180.582 | (a)(1) table | Brassica, head and stem, subgroup | Brassica, head and stem, subgroup 5A
180.582 | (a)(1) table | Brassica, leafy greens, subgroup | Brassica, leafy greens, subgroup 5B
180.582 | (a)(1) table | Fruit, pome, group | Fruit, pome, group 11
180.582 | (a)(1) table | Legume, forage, except peanut and soybean, subgroup | Vegetable, foliage of legume, except soybean, subgroup 7A
180.582 | (a)(1) table | Peppermint | Peppermint, tops
180.582 | (a)(1) table | Spearmint | Spearmint, tops
180.582 | (a)(1) table | Vegetable, bulb | Vegetable, bulb, group 3
180.582 | (a)(1) table | Vegetable, leafy, except brassica, group | Vegetable, leafy, except brassica, group 4
180.582 | (a)(1) table | Vegetable, leaves of root and tuber, except sugar beet | Vegetable, leaves of root and tuber, group 2, except sugar beet
180.586 | (a) table | Pome fruit | Fruit, pome
180.586 | (d) table | Animal feed, nongrass | Animal feed, nongrass, group 18
180.586 | (d) table | Grain, cereal, forage, fodder and straw | Grain, cereal, forage, fodder and straw, group 16
180.587 | (a) table | Vegetable, cucurbits, group 9 | Vegetable, cucurbit, group 9
180.587 | (a) table | Vegetable, fruiting, group 8 except tomato | Vegetable, fruiting, group 8, except tomato
180.588 | (b) table | Vegetable, cucurbit, subgroup 9A | Melon subgroup 9A
180.589 | (a)(1) table | Apple, wet, pomace | Apple, wet pomace
180.589 | (a)(1) table | Aspirated grain fractions | Grain, aspirated fractions
180.589 | (a)(1) table | Berries, group 13 | Berry group 13
180.589 | (a)(1) table | Fruit, pome, crop group, group 11 | Fruit, pome, group 11
180.589 | (a)(1) table | Hops, cones, dried | Hop, dried cones
180.589 | (a)(1) table | Leafy greens, subgroup 4A, except head and leaf lettuce | Leafy greens subgroup 4A, except head lettuce and leaf lettuce
180.589 | (a)(1) table | Leafy petioles, subgroup 4B | Leaf petioles subgroup 4B
180.589 | (a)(1) table | Vegetable, Brassica leafy, head and stem, subgroup 5A | Brassica, head and stem, subgroup 5A
180.589 | (a)(1) table | Vegetable, Brassica leafy, leafy greens, subgroup 5B | Brassica, leafy greens, subgroup 5B
180.589 | (a)(1) table | Vegetable, legume, dried shell pea and bean (except soybean), subgroup 6C, except cowpea, field pea, and grain lupin | Pea and bean, dried shelled, except soybean, subgroup 6C, except cowpea, field pea and grain lupin
180.589 | (a)(2) table | Goat, meat, byproducts | Goat, meat byproducts
180.589 | (a)(2) table | Poultry, meat, byproduct | Poultry, meat byproducts
180.589 | (d) table | Grain, cereal, forage, fodder and straw, group 16, fodder | Grain, cereal, forage, fodder and straw, group 16, stover
180.589 | (d) table | Vegetable, leafy, group 4, except lettuce, celery and spinach | Vegetable, leafy, except brassica, group 4, except celery, lettuce and spinach
180.589 | (d) table | Vegetable, legume, foliage, group 7, forage | Vegetable, foliage of legume, group 7, forage
180.589 | (d) table | Vegetable, legume, foliage, group 7, hay | Vegetable, foliage of legume, group 7, hay
180.589 | (d) table | Vegetable, legume, foliage, group 7, vines | Vegetable, foliage of legume, group 7, vines
180.589 | (d) table | Vegetable, root and tuber, leaves, Group 2 | Vegetable, leaves of root and tuber, group 2
180.598 | (a) table | Cattle, meat byproducts, except liver and kidney | Cattle, meat byproducts, except kidney and liver
180.598 | (a) table | Goat, meat byproducts except liver and kidney | Goat, meat byproducts, except kidney and liver
180.598 | (a) table | Horse, meat byproducts, except liver and kidney | Horse, meat byproducts, except kidney and liver
180.598 | (a) table | Sheep, meat byproducts, except liver and kidney | Sheep, meat byproducts, except kidney and liver
180.598 | (a) table | Vegetables, tuberous and corn, subgroup 1C | Vegetable, tuberous and corm, subgroup 1C
180.601 | (a) table | Cucurbit vegetables (Group 9) | Vegetable, cucurbit, group 9
180.603 | (a)(1) table | Vegetable, cucubit, group 9 | Vegetable, cucurbit, group 9
180.603 | (a)(2) table | Cattle, mbyp | Cattle, meat byproducts
180.603 | (a)(2) table | Goat, mbyp | Goat, meat byproducts
180.603 | (a)(2) table | Hog, mbyp | Hog, meat byproducts
180.603 | (a)(2) table | Horse, mbyp | Horse, meat byproducts
180.603 | (a)(2) table | Sheep, mbyp | Sheep, meat byproducts
180.607 | (a)(1) table | Vegetable, brassica, leafy greens, subgroup 5B | Brassica, leafy greens, subgroup 5B
180.607 | (a)(1) table | Vegetable, leafy greens, subgroup 4A | Leafy greens subgroup 4A
180.610 | (a)(1) table | Aspirated grain fractions | Grain, aspirated fractions
180.610 | (a)(2) table | Cattle, meat byproducts, excluding kidney | Cattle, meat byproducts, except kidney
180.610 | (a)(2) table | Goat, meat byproducts, excluding kidney | Goat, meat byproducts, except kidney
180.610 | (a)(2) table | Horse, meat byproducts, excluding kidney | Horse, meat byproducts, except kidney
180.610 | (a)(2) table | Sheep, meat byproducts, excluding kidney | Sheep, meat byproducts, except kidney
180.613 | (a)(1) table | Potato, granular/flakes | Potato, granules/flakes
180.613 | (a)(1) table | Vegetable, cucurbit, group | Vegetable, cucurbit, group 9
180.613 | (a)(1) table | Vegetable, fruiting, group | Vegetable, fruiting, group 8
180.613 | (a)(1) table | Vegetable, leafy except Brassica group 4, except spinach | Vegetable, leafy, except brassica, group 4, except spinach
180.613 | (a)(2) table | Sheep, meat by products | Sheep, meat byproducts
180.614 | (a) table | Vegetable, fruiting group 8¹ | Vegetable, fruiting, group 8¹
180.617 | (b) table | Aspirated grain fractions | Grain, aspirated fractions

[FR Doc. E7-18159 Filed 9-17-07; 8:45 a.m.]

BILLING CODE 6560-50-S